DEPARTMENT OF TRANSPORTATION

Federal Aviation Administration

14 CFR Part 97

[Docket No. 31073; Amdt. No. 3693]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 24, 2016. The compliance date for each SIAP, associated Takeoff Minimums, and ODP is specified in the amendatory provisions.

The incorporation by reference of certain publications listed in the regulations is approved by the Director of the Federal Register as of May 24, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on April 22, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * Effective 26 MAY 2016

Aniak, AK, Aniak, ILS/DME RWY 10, Amdt 7E, CANCELED

Aniak, AK, Aniak, ILS OR LOC RWY 11, Orig

Aniak, AK, Aniak, LOC/DME RWY 10, Amdt 3D, CANCELED

Aniak, AK, Aniak, NDB/DME RWY 29, Amdt 4

Aniak, AK, Aniak, RNAV (GPS) RWY 11, Amdt 1

Aniak, AK, Aniak, RNAV (GPS) RWY 29, Amdt 2

Aniak, AK, Aniak, Takeoff Minimums and ODP, Amdt 3

Los Angeles, CA, Los Angeles Intl, ILS OR LOC RWY 24L, Amdt 26C

Los Angeles, CA, Los Angeles Intl, RNAV (GPS) Y RWY 24L, Amdt 4

Los Angeles, CA, Los Angeles Intl, RNAV (RNP) Z RWY 24L, Amdt 1D

Ontario, CA, Ontario Intl, ILS OR LOC RWY 8L, Amdt 9B

Ontario, CA, Ontario Intl, ILS OR LOC RWY 26R, Amdt 4A

Ontario, CA, Ontario Intl, RNAV (GPS) RWY 8R, Amdt 1C

Ontario, CA, Ontario Intl, RNAV (GPS) Y RWY 8L, Amdt 1D

Ontario, CA, Ontario Intl, RNAV (GPS) Y RWY 26L, Amdt 1B

Ontario, CA, Ontario Intl, RNAV (GPS) Y RWY 26R, Amdt 1B

Ontario, CA, Ontario Intl, RNAV (RNP) Z RWY 8L, Orig-D

Ontario, CA, Ontario Intl, RNAV (RNP) Z RWY 26L, Orig-D

Ontario, CA, Ontario Intl, RNAV (RNP) Z RWY 26R, Orig-D

Ontario, CA, Ontario Intl, Takeoff Minimums and Obstacle DP, Amdt 9

Pagosa Springs, CO, Stevens Field, RNAV (GPS) RWY 1, Orig

Pagosa Springs, CO, Stevens Field, RNAV (GPS)-A, Amdt 1, CANCELED

Tallahassee, FL, Tallahassee Intl, RNAV (GPS) RWY 18, Amdt 2

Tallahassee, FL, Tallahassee Intl, RNAV (GPS) RWY 36, Amdt 2

Pohnpei Island, FM, Pohnpei Intl, RNAV (RNP) Y RWY 9, Amdt 1

Pohnpei Island, FM, Pohnpei Intl, RNAV (RNP) Z RWY 9, Amdt 1

Metter, GA, Metter Muni, RNAV (GPS) RWY 10, Amdt 1

Metter, GA, Metter Muni, RNAV (GPS) RWY 28, Amdt 1

Sioux City, IA, Sioux Gateway/Col Bud Day Field, ILS OR LOC RWY 13, Amdt 2C

Sioux City, IA, Sioux Gateway/Col Bud Day Field, ILS OR LOC RWY 31, Amdt 25D

Sioux City, IA, Sioux Gateway/Col Bud Day Field, RNAV (GPS) RWY 13, Orig-D

Sioux City, IA, Sioux Gateway/Col Bud Day Field, RNAV (GPS) RWY 17, Amdt 1

Sioux City, IA, Sioux Gateway/Col Bud Day Field, RNAV (GPS) RWY 31, Orig-D

Sioux City, IA, Sioux Gateway/Col Bud Day Field, RNAV (GPS) RWY 35, Orig

Sioux City, IA, Sioux Gateway/Col Bud Day Field, Takeoff Minimums and Obstacle DP, Amdt 3A

Belleville, IL, Scott AFB/MidAmerica, ILS OR LOC RWY 14L, Orig-G

Belleville, IL, Scott AFB/MidAmerica, ILS OR LOC RWY 14R, Orig-F

Belleville, IL, Scott AFB/MidAmerica, ILS OR LOC RWY 32R, Orig-H

Belleville, IL, Scott AFB/MidAmerica, ILS OR LOC/DME RWY 32L, Amdt 2

Belleville, IL, Scott AFB/MidAmerica, RADAR-1, Orig

Belleville, IL, Scott AFB/MidAmerica, RNAV (GPS) RWY 14L, Orig-A

Belleville, IL, Scott AFB/MidAmerica, RNAV (GPS) RWY 14R, Orig-E

Belleville, IL, Scott AFB/MidAmerica, RNAV (GPS) RWY 32L, Orig-E

Belleville, IL, Scott AFB/MidAmerica, RNAV (GPS) RWY 32R, Orig-C

Belleville, IL, Scott AFB/MidAmerica, TACAN RWY 14R, Amdt 1B

Belleville, IL, Scott AFB/MidAmerica, TACAN RWY 32L, Amdt 1B

Belleville, IL, Scott AFB/MidAmerica, TACAN-A, Orig

Terre Haute, IN, Sky King, RNAV (GPS)-A, Orig

Terre Haute, IN, Sky King, Takeoff Minimums and Obstacle DP, Amdt 4

Caro, MI, Tuscola Area, RNAV (GPS) RWY 6, Amdt 1

Caro, MI, Tuscola Area, RNAV (GPS) RWY 24, Amdt 1

Caro, MI, Tuscola Area, Takeoff Minimums and Obstacle DP, Amdt 2

Caro, MI, Tuscola Area, VOR/DME-A, Amdt 6

Forsyth, MT, Tillitt Field, NDB RWY 27, Amdt 5

Forsyth, MT, Tillitt Field, RNAV (GPS) RWY 27, Amdt 2

Forsyth, MT, Tillitt Field, Takeoff Minimums and Obstacle DP, Amdt 1

Miles City, MT, Frank Wiley Field, RNAV (GPS) RWY 4, Amdt 3

Miles City, MT, Frank Wiley Field, RNAV (GPS) RWY 13, Orig

Miles City, MT, Frank Wiley Field, RNAV (GPS) RWY 22, Amdt 1

Miles City, MT, Frank Wiley Field, RNAV (GPS) RWY 31, Orig

Miles City, MT, Frank Wiley Field, Takeoff Minimums and Obstacle DP, Amdt 1

Miles City, MT, Frank Wiley Field, VOR RWY 4, Amdt 13

Miles City, MT, Frank Wiley Field, VOR/DME RWY 22, Amdt 9

Minot, ND, Minot Intl, LOC/DME BC RWY 13, Amdt 8A

Newport, NH, Parlin Field, RNAV (GPS)-A, Orig

Newport, NH, Parlin Field, Takeoff Minimums and Obstacle DP, Orig

Caldwell, NJ, Essex County, LOC RWY 22, Amdt 4

Caldwell, NJ, Essex County, RNAV (GPS) RWY 22, Amdt 2

Moriarty, NM, Moriarty, RNAV (GPS) RWY 8, Orig

Moriarty, NM, Moriarty, RNAV (GPS) RWY 26, Orig

Moriarty, NM, Moriarty, Takeoff Minimums and Obstacle DP, Orig

Elko, NV, Elko Rgnl, GPS RWY 5, Orig, CANCELED

Elko, NV, Elko Rgnl, LDA/DME RWY 24, Amdt 6

Elko, NV, Elko Rgnl, RNAV (GPS) RWY 6, Orig

Elko, NV, Elko Rgnl, RNAV (GPS) RWY 24, Amdt 1

Elko, NV, Elko Rgnl, Takeoff Minimums and Obstacle DP, Amdt 6

Elko, NV, Elko Rgnl, VOR-A, Amdt 6

Elko, NV, Elko Rgnl, VOR/DME-B, Amdt 5

Reno, NV, Reno/Tahoe Intl, ILS RWY 16R, Amdt 10F, CANCELED

Reno, NV, Reno/Tahoe Intl, ILS X OR LOC X RWY 16R, Orig

Reno, NV, Reno/Tahoe Intl, ILS Y RWY 16R, Orig

Reno, NV, Reno/Tahoe Intl, ILS Z OR LOC Z RWY 16R, Orig

Reno, NV, Reno/Tahoe Intl, LOC RWY 16R, Amdt 7, CANCELED

Reno, NV, Reno/Tahoe Intl, LOC Y RWY 16R, Orig

White Plains, NY, Westchester County, ILS OR LOC RWY 16, ILS RWY 16 (SA CAT I), ILS RWY 16 (CAT II), Amdt 25A

Dayton, OH, James M Cox Dayton Intl, ILS OR LOC RWY 6L, ILS RWY 6L (CAT II), ILS RWY 6L (CAT III), Amdt 10

Dayton, OH, James M Cox Dayton Intl, ILS OR LOC RWY 24L, Amdt 10

Dayton, OH, James M Cox Dayton Intl, ILS OR LOC RWY 24R, Amdt 10

Dayton, OH, James M Cox Dayton Intl, RNAV (GPS) Z RWY 24R, Amdt 2

Fostoria, OH, Fostoria Metropolitan, NDB RWY 27, Amdt 5A, CANCELED

Norman, OK, University of Oklahoma Westheimer, ILS OR LOC RWY 18, Amdt 2

Norman, OK, University of Oklahoma Westheimer, LOC RWY 3, Amdt 4

Norman, OK, University of Oklahoma Westheimer, RNAV (GPS) RWY 3, Amdt 2B

Norman, OK, University of Oklahoma Westheimer, RNAV (GPS) RWY 18, Amdt 2

Norman, OK, University of Oklahoma Westheimer, RNAV (GPS) RWY 36, Orig-B

Oklahoma City, OK, Sundance Airpark, LOC RWY 17, Orig-F, CANCELED

Tipton, OK, Tipton Muni, GPS RWY 17, Orig-A, CANCELED

Tipton, OK, Tipton Muni, VOR/DME RWY 17, Orig-B, CANCELED

Tulsa, OK, Richard Lloyd Jones Jr, RNAV (GPS) RWY 19R, Orig

Klamath Falls, OR, Crater Lake-Klamath Rgnl, HI ILS OR LOC RWY 32, Amdt 6

Klamath Falls, OR, Crater Lake-Klamath Rgnl, HI TACAN RWY 14, Amdt 3A

Klamath Falls, OR, Crater Lake-Klamath Rgnl, HI TACAN RWY 32, Amdt 5

Erie, PA, Erie Intl/Tom Ridge Field, ILS OR LOC RWY 6, Amdt 18

Erie, PA, Erie Intl/Tom Ridge Field, ILS OR LOC RWY 24, Amdt 10

Erie, PA, Erie Intl/Tom Ridge Field, NDB RWY 6, Amdt 2, CANCELED

Erie, PA, Erie Intl/Tom Ridge Field, NDB RWY 24, Amdt 20

Hazleton, PA, Hazleton Rgnl, RNAV (GPS) RWY 10, Amdt 2

Hazleton, PA, Hazleton Rgnl, RNAV (GPS) RWY 28, Amdt 1

Martin, SD, Martin Muni, GPS RWY 32, Orig-C, CANCELED

Martin, SD, Martin Muni, RNAV (GPS) RWY 32, Orig

Martin, SD, Martin Muni, Takeoff Minimums and Obstacle DP, Orig

Beaumont/Port Arthur, TX, Jack Brooks Rgnl, VOR-A, Amdt 6B, CANCELED

Beaumont/Port Arthur, TX, Jack Brooks Rgnl, VOR-B, Amdt 6B, CANCELED

Beaumont/Port Arthur, TX, Jack Brooks Rgnl, VOR-C, Amdt 5B, CANCELED

Beaumont/Port Arthur, TX, Jack Brooks Rgnl, VOR/DME-D, Amdt 2A, CANCELED

Corpus Christi, TX, Corpus Christi Intl, ILS OR LOC RWY 13, Amdt 28

Corpus Christi, TX, Corpus Christi Intl, LOC RWY 31, Amdt 9

Corpus Christi, TX, Corpus Christi Intl, RNAV (GPS) X RWY 31, Orig

Corpus Christi, TX, Corpus Christi Intl, RNAV (GPS) Y RWY 13, Amdt 2

Corpus Christi, TX, Corpus Christi Intl, RNAV (GPS) Y RWY 31, Amdt 4

Corpus Christi, TX, Corpus Christi Intl, RNAV (RNP) Z RWY 13, Amdt 1

Corpus Christi, TX, Corpus Christi Intl, RNAV (RNP) Z RWY 31, Amdt 1

Corpus Christi, TX, Corpus Christi Intl, Takeoff Minimums and Obstacle DP, Amdt 3

Mineola, TX, Mineola Wisener Field, VOR-A, Amdt 6

Terrell, TX, Terrell Muni, Takeoff Minimums and Obstacle DP, Amdt 1

Cheyenne, WY, Cheyenne Rgnl/Jerry Olson Field, ILS OR LOC RWY 27, Amdt 35

Cheyenne, WY, Cheyenne Rgnl/Jerry Olson Field, NDB RWY 27, Amdt 15A, CANCELED

RESCINDED: On March 24, 2016 (81 FR 15630), the FAA published an Amendment in Docket No. 31067, Amdt No. 3687, to Part 97 of the Federal Aviation Regulations, under section 97.20 and 97.33. The following entries for Morris, IL effective May 26, 2016, are hereby rescinded in their entirety:

Morris, IL, Morris Muni—James R Washburn Field, RNAV (GPS) RWY 18, Amdt 1

Morris, IL, Morris Muni—James R Washburn Field, RNAV (GPS) RWY 36, Amdt 2

Morris, IL, Morris Muni—James R Washburn Field, Takeoff Minimums and Obstacle DP, Amdt 1

[FR Doc. 2016-11955 Filed 5-23-16; 8:45 am]

BILLING CODE 4910-13-P